DEPARTMENT OF HOMELAND SECURITY

Federal Emergency Management Agency

[Docket ID FEMA-2024-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of April 23, 2025 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Assistant Administrator (Acting) for Risk Management, Federal Emergency Management Agency, Department of Homeland Security.

Community | Community map repository address
Hamilton County, Florida and Incorporated Areas
Docket No.: FEMA-B-2389
Town of Jennings | Town Hall, 1291 Florida Street, Jennings, FL 32053.
Unincorporated Areas of Hamilton County | Hamilton County Building Department, 204 Northeast 1st Street, Jasper, FL 32052.
Jefferson County, Florida and Incorporated Areas
Docket No.: FEMA-B-2389
Unincorporated Areas of Jefferson County | Jefferson County Planning Office, 445 West Palmer Mill Road, Monticello, FL 32344.
Madison County, Florida and Incorporated Areas
Docket No.: FEMA-B-2389
City of Madison | City Hall, 321 Southwest Rutledge Street, Madison, FL 32340.
Town of Greenville | City Hall, 154 Southwest Old Mission Avenue, Greenville, FL 32331.
Unincorporated Areas of Madison County | Madison County Building Department, 229 Southwest Pinckney Street, Madison, FL 32340.
Stark County, Illinois and Incorporated Areas
Docket No.: FEMA-B-2390
City of Toulon | City Hall, 122 North Franklin Street, Toulon, IL 61483.
City of Wyoming | City Hall, 108 East Williams Street, Wyoming, IL 61491.
Unincorporated Areas of Stark County | Stark County Courthouse, 130 West Main Street, Toulon, IL 61483.
Village of Bradford | Village Hall, 160 West Main Street, Bradford, IL 61421.
Warren County, Ohio and Incorporated Areas
Docket No.: FEMA-B-2369, FEMA-B-2151
City of Carlisle | Municipal Building, 760 Central Avenue, Carlisle, OH 45005.
City of Franklin | City Administration Building, 1 Benjamin Franklin Way, Franklin, OH 45005.
City of Lebanon | City Building, 50 South Broadway, Lebanon, OH 45036.
City of Mason | Municipal Center, 6000 Mason-Montgomery Road, Mason, OH 45040.
City of South Lebanon | Municipal Building, 10 North High Street, South Lebanon, OH 45065.
City of Springboro | Municipal Building, 320 West Central Avenue, Springboro, OH 45066.
Unincorporated Areas of Warren County | Warren County Administration Building, 406 Justice Drive, Room 167, Lebanon, OH 45036.
Village of Corwin | Wayne Township Administration Building, 6050 North Clarksville Road, Waynesville, OH 45068.
Village of Maineville | Administrative Offices, 8188 South State Route 48, Maineville, OH 45039.
Village of Morrow | Municipal Building, 150 East Pike Street, Morrow, OH 45152.
Village of Waynesville | Municipal Office, 1400 Lytle Road, Waynesville, OH 45068.
Brookings County, South Dakota and Incorporated Areas
Docket No.: FEMA-B-2363
City of Arlington | City Hall, 202 West Elm Street, Arlington, SD 57212.
City of Aurora | City Office, 102 West Front Street, Aurora, SD 57002.
City of Brookings | City and County Government Center, 520 3rd Street, Suite 140, Brookings, SD 57006.
City of Bruce | Finance Office, 507 Jay Street, Bruce, SD 57220.
City of Elkton | Community Center, 109 Elk Street, Elkton, SD 57026.
City of Volga | City Hall, 226 Kasan Avenue, Volga, SD 57071.
Town of Bushnell | Map Repository, 47816 Main Street, Bushnell, SD 57276.
Town of Sinai | Fire Hall, 307 Main Street, Sinai, SD 57061.
Town of White | City Finance Office, 300 West Main Street, White, SD 57276.
Unincorporated Areas of Brookings County | City and County Government Center, 520 3rd Street, Suite 110, Brookings, SD 57006.
Clallam County, Washington and Incorporated Areas
Docket No.: FEMA-B-2174
City of Forks | City Hall, 500 East Division Street, Forks, WA 98331.
City of Port Angeles | City Hall, 321 East 5th Street, Port Angeles, WA 98362.
City of Sequim | Civic Center, 152 West Cedar Street, Sequim, WA 98382.
Jamestown S'Klallam Tribe | Jamestown S'Klallam Tribe Government Office, 1033 Old Blyn Highway, Sequim, WA 98382.
Lower Elwha Klallam Tribe | Lower Elwha Klallam Tribe Center, 2851 Lower Elwha Road, Port Angeles, WA 98363.
Makah Tribe | Makah Tribe Center, 101 Resort Drive, Neah Bay, WA 98357.
Quileute Indian Tribe | Quileute Indian Tribe Office, 90 Main Street, La Push, WA 98350.
Unincorporated Areas of Clallam County | Clallam County Courthouse, 223 East 4th Street, Port Angeles, WA 98362.

[FR Doc. 2024-29411 Filed 12-12-24; 8:45 am]

BILLING CODE 9110-12-P